NATIONAL AERONAUTICS AND SPACE ADMINISTRATION

[(Notice (17-001)]

Notice of Intent To Grant a Partially Exclusive License

AGENCY: National Aeronautics and Space Administration.

ACTION: Notice of intent To grant partially exclusive license.

SUMMARY: NASA hereby gives notice of its intent to grant a partially exclusive patent license in the United States to practice the inventions described and claimed in U.S. Patent Number 7,075,295 B2 titled “Magnetic Field Response Sensor for Conductive Media,” NASA Case Number LAR-16571-1; U.S. Patent Number 7,589,525 B2 titled “Magnetic Field Response Sensor for Conductive Media,” NASA Case Number LAR-16571-2; U.S. Patent No. 7,759,932 B2 titled “Magnetic Field Response for Conductive Media,” NASA Case Number LAR-16571-3; U.S. Patent No. 7,086,593 B2 titled “Magnetic Field Response Measurement Acquisition System,” NASA Case Number LAR-16908-1; U.S. Patent No. 7,047,807 B2 titled “Flexible Framework for Capacitive Sensing,” NASA Case No. LAR-16974-1; U.S. Patent No. 7,506,541 B2 titled “System and Method for Wirelessly Determining Fluid Volume,” NASA Case No. LAR-17116-1; U.S. Patent No. 7,255,004 B2 titled “Wireless Fluid Level Measuring System,” NASA Case Number LAR-17155-1; U.S. Patent No. 7,159,774 B2 titled “Magnetic Field Response Measurement Acquisition System,” NASA Case No. LAR-17280-1; U.S. Patent No. 8,430,327 B2 titled “Wireless Sensing System Using Open-Circuit, Electrically-Conductive Spiral-Trace Sensor,” NASA Case No. LAR-17294-1; U.S. Patent No. 7,711,509 B2 titled “Method of Calibrating a Fluid-Level Measurement System,” NASA Case No. LAR-17480-1; and U.S. Patent Application No. 14/520,863 titled “Antenna for Far Field Transceiving,” NASA Case No. LAR-18400-1, to Smart BioHealth, LLC, having its principal place of business in Minnesota City, MN. The fields of use may be limited to portable devices (excluding devices composed of threads, fabrics, textiles, and/or paper) for Human Performance (HP) measurement of body density (limited to body fat, muscle density, and bone density); body mechanics (limited to motion analysis, posture, and balance); physiological responses to physical activity, and energy usage (limited to lactic acid, blood glucose, blood oxygen, hydration, and electrolyte balance).

DATES: The prospective partially exclusive license may be granted unless, within fifteen (15) days from the date of this published notice, NASA receives written objections including evidence and argument that establish that the grant of the license would not be consistent with the requirements regarding the licensing of federally owned inventions as set forth in the Bayh-Dole Act and implementing regulations. Competing applications completed and received by NASA within fifteen (15) days of the date of this published notice will also be treated as objections to the grant of the contemplated partially exclusive license. Objections submitted in response to this notice will not be made available to the public for inspection and, to the extent permitted by law, will not be released under the Freedom of Information Act.

ADDRESSES: Objections relating to the prospective license may be submitted to Patent Counsel, Office of Chief Counsel, NASA Langley Research Center, MS 30, Hampton, Virginia 23681. Phone (757) 864-3221. Facsimile (757) 864-9190.

FOR FURTHER INFORMATION CONTACT: Robin W. Edwards, Patent Counsel, Office of Chief Counsel, NASA Langley Research Center, MS 30, Hampton, Virginia 23681. Phone (757) 864-3221. Facsimile (757) 864-9190.

SUPPLEMENTARY INFORMATION: This notice is issued in accordance with 35 U.S.C. 209(e) and 37 CFR 404.7(a)(a)(i). This notice of intent to grant a partially exclusive patent license is issued in accordance with 35 U.S.C. 209(c)(1) and 37 CFR 404.7(a)(1)(i). The patent rights in these inventions have been assigned to the United States of America as represented by the Administrator of the National Aeronautics and Space Administration. The prospective exclusive license will comply with the requirements of 35 U.S.C. 209 and 37 CFR 404.7.

Information about other NASA inventions available for licensing can be found online at http://technology.nasa.gov.

Mark P. Dvorscak,
Agency Counsel for Intellectual Property.

[FR Doc. 2017-01179 Filed 1-18-17; 8:45 am]

BILLING CODE 7510-13-P